ENVIRONMENTAL PROTECTION AGENCY

[FRL-9268-6; EPA-HQ-OEI-2010-0747]

Notification of Deletion of System of Records; EPA Parking Control Office File (EPA-10) and EPA Transit and Guaranteed Ride Home Program Files (EPA-35)

AGENCY: Environmental Protection Agency (EPA).

ACTION: Notice.

SUMMARY: The Environmental Protection Agency (EPA) is deleting the systems of records for EPA Parking Control Office File (EPA-10), published in the Federal Register on January 25, 1978 (43 FR 3502) and EPA Transit and Guaranteed Ride Home Program Files (EPA-35) published in the Federal Register on February 22, 2002. The personally identifiable information in these systems has been integrated into the Office of Administrative Services Information System (OASIS) (EPA-41).

DATES: This notice is effective immediately upon publication in the Federal Register.

FOR FURTHER INFORMATION CONTACT: Ray Lee, IT Specialist, Resources Management Staff (RMS) Team Lead, Office of Administration, OARM, (202) 564-4625 or Jackie Brown, IT Specialist, Office of Administration, RMS, OARM, (202) 564-0313, 1200 Pennsylvania Avenue, NW., Mail Code 3201A, Washington, DC 20460.

SUPPLEMENTARY INFORMATION:

I. General Information

How can I get copies of this document and other related information?

EPA has established a docket for this action under Docket ID No. EPA-HQ-OEI-2010-0747 copies of the available docket materials are available either electronically through http://www.regulations.gov or in hard copy at the Docket in the EPA Docket Center, (EPA/DC) EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1745.

Electronic Access. You may access this Federal Register document electronically through the EPA Internet under the “Federal Register” listings at http://www.epa.gov/fedrgstr/.

Dated: February 3, 2011.
Malcolm D. Jackson,
Assistant Administrator and Chief Information Officer.

[FR Doc. 2011-3860 Filed 2-18-11; 8:45 am]

BILLING CODE 6560-50-P